SURFACE TRANSPORTATION BOARD

[Docket No. FD 36367]

Davenport Industrial Railroad, LLC—Lease & Operation Exemption—City of Davenport, Iowa

Davenport Industrial Railroad, LLC (DIR), a noncarrier, has filed a verified notice of exemption under 49 CFR 1150.31 to lease from the City of Davenport (the City) and operate an approximately 2.8-mile rail line (the Line).¹ The Line extends west and south from a point about 75 feet from a connection with the main line of the Dakota, Minnesota & Eastern Railroad Corporation (DM&E) near DM&E milepost 191.2 near Davenport, Iowa, to the City-owned Davenport Transload Facility. According to DIR, the Line does not have mileposts.

¹ The Board has authorized the current operator of the Line, Savage Davenport Railroad Company (SDR), to discontinue its operations effective January 1, 2020. See Savage Davenport R.R.—Discontinuance of Service Exemption—in Scott Cty., Iowa, AB 1277X (STB served Sept. 30, 2019 and Oct. 29, 2019).

DIR states that it is finalizing the terms of a lease with the City, under which, among other things, DIR would assume a leasehold interest in, and provide common carrier service over, the Line.

DIR certifies that, as a result of this transaction, its projected revenue will not exceed $5 million annually and will not result in its becoming a Class I or Class II carrier. DIR states that the agreement between the City and DIR does not include any provision or agreement that would limit future interchange with a third-party connecting carrier.

According to DIR, it anticipates consummating the transaction on January 1, 2020, to coincide with SDR's discontinuance of service. The transaction may be consummated on or after December 22, 2019, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions to stay must be filed no later than December 13, 2019 (at least seven days before the exemption becomes effective).

All pleadings, referring to Docket No. FD 36367, must be filed with the Surface Transportation Board either via e-filing or in writing addressed to 395 E Street SW, Washington, DC 20423-0001. In addition, a copy of each pleading must be served on DIR's representative, Robert A. Wimbish, Fletcher & Sippel LLC, 29 North Wacker Drive, Suite 800, Chicago, IL 60606-3208.

According to DIR, this action is categorically excluded from environmental review under 49 CFR 1105.6(c) and from historic reporting under 49 CFR 1105.8(b).

Board decisions and notices are available at www.stb.gov.

Decided: December 2, 2019.
By the Board, Allison C. Davis, Director, Office of Proceedings.
Kenyatta Clay,
Clearance Clerk.

[FR Doc. 2019-26375 Filed 12-5-19; 8:45 am]

BILLING CODE 4915-01-P